NATIONAL AERONAUTICS AND SPACE ADMINISTRATION

[Notice (04-028)]

Notice of Prospective Patent License

AGENCY: National Aeronautics and Space Administration.

ACTION: Notice of prospective patent license.

SUMMARY: NASA hereby gives notice that Face International Corporation, of 427 W. 35th Street, Norfolk, Virginia 23508, has applied for an exclusive license to practice the invention described in U.S. Patent No. 5,632,841, entitled “Thin Layer Composite Unimorph Ferroelectric Driver and Sensor,” which is assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by March 9, 2004.

FOR FURTHER INFORMATION CONTACT: Robin W. Edwards, Patent Attorney, Mail Stop 212, NASA Langley Research Center, Hampton, VA 23681-2199. Telephone 757-864-3230; fax 757-864-9190.

Dated: February 17, 2004.
Robert M. Stephens,
Deputy General Counsel.

[FR Doc. 04-3848 Filed 2-20-04; 8:45 am]

BILLING CODE 7510-01-P